DEPARTMENT OF HEALTH AND HUMAN SERVICES

Health Resources and Services Administration

Meetings of the National Advisory Council on Nurse Education and Practice

AGENCY: Health Resources and Services Administration (HRSA), Department of Health and Human Services.

ACTION: Notice.

SUMMARY: In accordance with the Federal Advisory Committee Act, this notice announces that the National Advisory Council on Nurse Education and Practice (NACNEP) will hold public meetings for the 2025 calendar year (CY). Information about NACNEP, agendas, and materials for these meetings can be found on the NACNEP website at: https://www.hrsa.gov/advisory-committees/nursing/meetings.

DATES: NACNEP meetings will be on (all in Eastern Time):

• March 5, 2025, 10 a.m.-4 p.m. and March 6, 2024, 10 a.m.-4 p.m.

• May 14, 2025, 10 a.m.-4 p.m.

• August 6, 2025, 10 a.m.-4 p.m. and August 7, 2025, 10 a.m.-4 p.m.

• December 4, 2024, 8 a.m.-5 p.m. and December 4, 2025, 8 a.m.-2 p.m.

ADDRESSES: Meetings may be held in-person, by teleconference, and/or video conference. For updates on how the meeting will be held, visit the NACNEP website 30 business days before the date of the meeting, where instructions for joining meetings either in-person or remotely will also be posted. In-person NACNEP meetings will be held at 5600 Fishers Lane, Rockville, Maryland, 20857. For meeting information updates, go to the NACNEP website meeting page at https://www.hrsa.gov/advisory-committees/nursing/meetings.

FOR FURTHER INFORMATION CONTACT: Justin Bala-Hampton, Designated Federal Officer, Bureau of Health Workforce, HRSA, 5600 Fishers Lane, Rockville, Maryland, 20857; 301-945-9880; or JBala-Hampton@hrsa.gov.

SUPPLEMENTARY INFORMATION: NACNEP provides advice and recommendations to the Secretary of Health and Human Services on policy, program development, and other matters of significance concerning the activities under Title VIII of the Public Health Service Act, including the range of issues relating to the nurse workforce, education, and practice improvement. NACNEP also prepares and submits an annual report to the Secretary of Health and Human Services and Congress describing its activities, including NACNEP's findings and recommendations concerning activities under Title VIII, as required by the Public Health Service Act.

Since priorities dictate meeting times, be advised that start times, end times, and agenda items are subject to change. For CY 2025 meetings, agenda items may include, but are not limited to, the nursing workforce (e.g., nursing shortage, distribution, supply, and access) nursing practice improvement, nursing education, nursing work environment and support, and other Title VIII program activities. Refer to the NACNEP website listed above for all current and updated information concerning the CY 2025 NACNEP meetings, including draft agendas and meeting materials that will be posted 30 calendar days before the meeting.

Members of the public will have the opportunity to provide comments. Public participants may submit written statements in advance of the scheduled meeting(s). Oral comments will be honored in the order they are requested and may be limited as time allows. Requests to submit a written statement or make oral comments to NACNEP should be sent to Justin Bala-Hampton using the contact information above at least 5 business days before the meeting date(s).

Individuals who need special assistance or another reasonable accommodation should notify Justin Bala-Hampton using the contact information listed above at least 10 business days before the meeting(s) they wish to attend. Since all in-person meetings will occur in a federal government building, attendees must go through a security check to enter the building. Non-U.S. citizen attendees must notify HRSA of their planned attendance at least 20 business days prior to the meeting to facilitate their entry into the building. All attendees are required to present government-issued identification prior to entry.

Maria G. Button,
Director, Executive Secretariat.

[FR Doc. 2024-30070 Filed 12-18-24; 8:45 am]

BILLING CODE 4165-15-P